DEPARTMENT OF THE INTERIOR

Bureau of Reclamation

Grassland Bypass Project, Merced and Fresno Counties, CA

AGENCY: Bureau of Reclamation, Interior.

ACTION: Notice of Availability of the Final Environmental Impact Statement and Environmental Impact Report (Final EIS/EIR).

SUMMARY: Pursuant to the National Environmental Policy Act (NEPA) and the California Environmental Quality Act (CEQA), the Bureau of Reclamation (Reclamation), the Federal lead agency, and the San Luis & Delta-Mendota Water Authority (Authority), the State lead agency, have prepared a Final Environmental Impact Statement (EIS) and a Final Environmental Impact Report (EIR) for the continuation of the Grassland Bypass Project until December 31, 2019 (Project). Reclamation proposes to enter a Use Agreement with the Authority for the continued use of a portion of the San Luis Drain after 2009 to convey subsurface agricultural irrigation water to Mud Slough (North). The Central Valley Regional Water Quality Control Board would need to revise their Basin Plan Amendment to delay compliance with selenium objectives for 2010 and amend the existing Waste Discharge Requirements for the Project in order to allow for anticipated drainage discharge into Mud Slough, and the Authority and the California Department of Fish and Game will need to amend their existing Memorandum of Understanding for the portion of Mud Slough North in the State's China Island Wildlife Area. Reclamation and the Authority would need to remove existing and future sediments from the affected portion of the San Luis Drain.

A Notice of Availability of the joint Draft EIS/EIR was published in the Federal Register on Thursday, January 15, 2009 (74 FR 2615). The written comment period on the Draft EIS/EIR ended March 16, 2009. The Final EIS/EIR contains responses to all comments received and reflects comments and any additional information received during the review period.

DATES: Reclamation will not make a decision on the proposed action until at least 30 days after release of the Final EIS/EIR. After the 30-day waiting period, Reclamation will complete a Record of Decision (ROD). The ROD will state the action that will be implemented and will discuss all factors leading to the decision.

ADDRESSES: A compact disk or a copy of the Final EIS/EIR may be requested from Ms. Shauna McDonald, Bureau of Reclamation, 1243 `N' Street, Fresno, CA 93721-1831 by calling 559-487-5202, TDD 559-487-5933, or via e-mail at SMcDonald@usbr.gov. The Final document is also available on the following Web site: at http://www.usbr.gov/mp/nepa/nepa_projdetails.cfm?Project_ID=3513.

See SUPPLEMENTARY INFORMATION section for locations where copies of the Final EIS/EIR are available.

FOR FURTHER INFORMATION CONTACT: Ms. Shauna McDonald, Bureau of Reclamation at the phone number or e-mail address above.

SUPPLEMENTARY INFORMATION: The Project and the Grassland Drainage Area are located in Merced and Fresno Counties in the Central Valley of California. Prior to 1996 when the interim project was implemented, subsurface agricultural drainage water was conveyed through channels used to deliver water to wetland habitat areas which limited Reclamation's ability to deliver fresh water to the wetlands. The Project now consolidates subsurface drainage flows on a regional basis (from the 97,000 acre Grassland Drainage Area [GDA]) after source control measures, applies the drainage to salt tolerant crops to reduce the volume, utilizes a 4-mile channel to place it into the Federal San Luis Drain (Drain) at a point near Russell Avenue, (Milepost 105.72, Check 19) and then utilizes a 28-mile segment of the Drain to convey the remaining drainage flows around wetland habitat areas, after which it is discharged to Mud Slough and subsequently reaches the San Joaquin River. The Project has reduced the volume of agricultural drainage water discharged from the GDA, resulting in significant environmental improvements to wetlands water supply channels and the San Joaquin River.

The original Grassland Bypass Project was implemented in November 1995 through an “Agreement for Use of the San Luis Drain” (Agreement No. 6-07-20-w1319) between Reclamation and the Authority. A Finding of No Significant Impact (FONSI No. 96-1-MP) was adopted by Reclamation for the original project and environmental commitments set forth in the FONSI were made an integral component of the initial Use Agreement. The Use Agreement allowed use of the Drain for a 5-year period that concluded September 30, 2001. A new Use Agreement (Agreement No. 01-WC-20-2075) was completed on September 28, 2001, for the period through December 31, 2009. The Project also includes a monitoring program with biological, water quality, and sediment components. Results of the monitoring program are reviewed by an Oversight Committee quarterly, or as necessary, to implement the Use Agreement.

The Draft EIS/EIR considered the direct, indirect, and cumulative effects on the physical, natural, and human environment that may result from the continued use of the Grassland Bypass Channel and a 28-mile segment of the San Luis Drain; continued discharges to Mud Slough; sediment management options within that Drain segment; ongoing drainwater reuse and expansion of the San Joaquin River Water Quality Improvement Project reuse area to 6,900 acres, and programmatic consideration of future phases of the treatment and disposal program.

The Draft EIS/EIR addressed potentially significant environmental issues and recommends adequate and feasible mitigation measures to reduce or eliminate significant environmental impacts. The Draft EIS/EIR examined two other alternatives: No Action and the 2001 Requirements Alternative. This other action alternative would continue the selenium load reductions and incentive fees of the 2001 Use Agreement.

A public meeting was held on February 10, 2009, in Los Banos, CA. Copies of the Final EIS/EIR are available for public review at the following locations:

• Bureau of Reclamation, South-Central California Area Office, 1243 `N' Street, Fresno, CA 93721-1831.

• Bureau of Reclamation, Mid-Pacific Regional Office Library, 2800 Cottage Way, Sacramento, CA 95825.

• San Luis & Delta-Mendota Water Authority, 842 Sixth Street, Suite 7, Los Banos, CA 93635.

• Fresno County Public Library Government Publications, 2420 Mariposa Street, Fresno, CA 93721.

• San Francisco Public Library Government Documents, 100 Larkin Street, San Francisco, CA 94012.

• Stanislaus County Library, 1500 I Street, Modesto, CA 95354.

• Merced County Public Library, 1312 South 7th Street, Los Banos, CA 93635.

• University of California-Berkeley, Water Resources Archive, 410 O'Brien Hall, Berkeley, CA 94720.

• University of California Davis, Shields Library, Documents Department, 100 NW Quad, Davis, CA 95616.

• California State Library, 914 Capitol Mall, Suite E-29, Sacramento, CA 95814.

Before including your name, address, phone number, e-mail address, or other personal identifying information in your comment, you should be aware that your entire comment, including your personal identifying information, may be made publicly available at any time. While you can ask us in your comment to withhold your personal identifying information from public review, we cannot guarantee that we will be able to do so.

Dated: August 7, 2009.
Brian Person,
Acting Deputy Regional Director, Mid-Pacific Region.

[FR Doc. E9-23428 Filed 9-28-09; 8:45 am]

BILLING CODE 4310-MN-P